DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 79 FR 63412-63414 dated October 23, 2014).

This notice reflects organizational changes in the Health Resources and Services Administration (HRSA). Specifically, this notice abolishes the Division of Global Training and Development and transfers the Global Health Workforce Training Programs from the Bureau of Health Workforce (RQ) to the HIV/AIDS Bureau (RV).

Chapter RQ—Bureau of Health Workforce

Section RQ-20, Functions

Delete the functions for the Office of Global Health Affairs (RQA1) within the Bureau of Health Workforce (RQ) and replace in its entirety.

Office of Global Health Affairs (RQA1)

The Office of Global Health Affairs serves as the principal advisor to the Office of Workforce Development and Analysis Director and the Associate Administrator on global health issues. Specifically: (1) Provides leadership, coordination, and advancement of global health activities relating to health care services for vulnerable and at-risk populations and for HRSA training programs; (2) provides support for the agency's International Visitors Program; (3) develops linkages and facilitates a mutual exchange of expertise for domestic and international programs aimed at improving quality and innovation in health professions education, retention, training, faculty development and community based systems of care; (4) provides leadership within HRSA for the support of global health and coordinates policy development with the HHS Office of Global Health Affairs and other departmental agencies, and; (5) supports and conducts programs with respect to activities associated with the international migration, domestic training, and utilization of foreign medical graduates and U.S. citizens studying abroad.

Chapter RV—HIV/AIDS Bureau

Section RV-20, Functions

Delete the functions for the Division of HIV/AIDS Training and Capacity Development (RV7) within the HIV/AIDS Bureau (RV) and replace in its entirety.

Division of HIV/AIDS Training and Capacity Development (RV7)

The Division of HIV/AIDS Training and Capacity Development provides national leadership and manages the implementation of Part F under Title XXVI of the PHS Act as amended by the Ryan White HIV/AIDS Treatment Extension Act of 2009, P.L. 111-87 (the Ryan White HIV/AIDS Program), including the Special Projects of National Significance and the AIDS Education and Training Centers Programs. The Special Projects of National Significance Program develops innovative models of HIV care and the AIDS Education and Training Centers Program increases the number of health care providers who are educated and motivated to counsel, diagnose, treat, and medically manage people with HIV disease and to help prevent high-risk behaviors that lead to HIV transmission. The division also implements the training and systems strengthening functions of the Global HIV/AIDS Program as part of the President's Emergency Plan for AIDS Relief (PEPFAR). This includes strengthening health systems for delivery of prevention, care and treatment services for people living with HIV/AIDS in PEPFAR funded countries and providing management and oversight of international programs aimed at improving quality and innovation in health professions education and training. The division will translate lessons learned from both the Global HIV/AIDS Programs and Special Projects of National Significance projects to the Part A, B, C, D, and F grantee community. In collaboration with the Division of Policy and Data, the division assesses effectiveness of technical assistance efforts/initiatives, identifies new technical assistance needs and priority areas, and participates in the bureau-wide technical assistance workgroup.

Section RV-30, Delegations of Authority

All delegations of authority and re-delegations of authority made to HRSA officials that were in effect immediately prior to this reorganization, and that are consistent with this reorganization, shall continue in effect pending further re-delegation.

This reorganization is effective upon date of signature.

Dated: November 16, 2014.
Mary K. Wakefield,
Administrator.

[FR Doc. 2014-27563 Filed 11-20-14; 8:45 am]

BILLING CODE 4165-15-P